ENVIRONMENTAL PROTECTION AGENCY

[ER-FRL-9017-4]

Environmental Impact Statements; Notice of Availability

Responsible Agency: Office of Federal Activities, General Information (202) 564-7146 or http://www.epa.gov/compliance/nepa/.

Weekly receipt of Environmental Impact Statements

Filed 09/29/2014 Through 10/03/2014

Pursuant to 40 CFR 1506.9.

Notice

Section 309(a) of the Clean Air Act requires that EPA make public its comments on EISs issued by other Federal agencies. EPA's comment letters on EISs are available at: http://www.epa.gov/compliance/nepa/eisdata.html.

EIS No. 20140289, Draft EIS, USN, CA, Disposal and Reuse of the Former Naval Weapons Station Seal Beach, Detachment Concord, Comment Period Ends: 11/25/2014, Contact: Erica Spinelli, 619-532-0980.

EIS No. 20140290, Draft EIS, BR, CA, Long-Term Water Transfers, Comment Period Ends: 12/01/2014, Contact: Brad Hubbard, 916-978-5204

EIS No. 20140291, Draft EIS, CALTRANS, CA, High Desert Corridor Project, Comment Period Ends: 12/02/2014, Contact: Ron Kosinski, 213-897-0703.

EIS No. 20140292, Final EIS, NOAA, 00, ADOPTION—Programmatic- Deepwater Horizon Oil Spill: Phase III Early Restoration Plan, Review Contact: David G. Westerholm, 301-713-2989. The U.S. Department of Commerce's National Oceanic and Atmospheric Administration (NOAA) has adopted the U.S. Department of the Interior's FEIS # 20140182, filed with the USEPA 06/20/2014. The NOAA was a cooperating agency for this project. Recirculation of the document is not necessary under Section 1306.3(c) of CEQ Regulations.

EIS No. 20140293, Draft EIS, NMFS, 00, Omnibus Essential Fish Habitat Amendment 2, Comment Period Ends: 12/09/2014, Contact: John K. Bullard, 978-281-9315.

EIS No. 20140294, Draft EIS, USACE, SC, Charleston Harbor Post 45, Comment Period Ends: 11/24/2014, Contact: Mark Messersmith, 843-329-8162.

EIS No. 20140295, Final EIS, NPS, VA, Dyke Marsh Wetland Restoration and Long-term Management Plan, Review Period Ends: 11/10/2014, Contact: Brent Steury, 703-289-2500.

EIS No. 20140296, Final EIS, FHWA, IL, 75th Street Corridor Improvement Project, Review Contact: Catherine A. Batey, 217-492-4600. Under MAP-21 section 1319, FTA has issued a single FEIS and ROD. Therefore, the 30-day wait/review period under NEPA does not apply to this action.

EIS No. 20140297, Draft EIS, USFS, OR, Kahler Dry, Forest Restoration Project, Comment Period Ends: 11/24/2014, Contact: John Evans, 541-278-3869.

EIS No. 20140298, Draft EIS, USACE, WA, Puget Sound Nearshore Ecosystem Restoration, Comment Period Ends: 11/24/2014, Contact: Nancy C. Gleason, 206-764-6577.

EIS No. 20140299, Final EIS, DOE, TX, ADOPTION—Freeport LNG Liquefaction Project and Phase II Modification Project, Contact: John Anderson, 202-586-0521. The U.S. Department of Energy has adopted the Federal Energy Regulatory Commission's FEIS #20140178 filed with the USEPA 6/17/2014. DOE was a cooperating agency for this project. Recirculation of the document is not necessary under Section 1306.3(c) of CEQ Regulations.

EIS No. 20140300, Draft EIS, BLM, NV, Las Vegas and Pahrump Field Offices Draft, Resource Management Plan, Comment Period Ends: 01/07/2015, Contact: Lee Kirk, 702-515-5026.

Dated: October 7, 2014.
Cliff Rader,
Director, NEPA Compliance Division, Office of Federal Activities.

[FR Doc. 2014-24255 Filed 10-9-14; 8:45 am]

BILLING CODE 6560-50-P